DEPARTMENT OF TRANSPORTATION

Surface Transportation Board

[STB Finance Docket No. 34002]

Alamo North Texas Railroad Corporation—Construction and Operation Exemption—Wise County, TX

AGENCY: Surface Transportation Board.

ACTION: Notice of exemption.

SUMMARY: Under 49 U.S.C. 10502, the Board conditionally exempts from the prior approval requirements of 49 U.S.C. 10901 the construction and operation by Alamo North Texas Railroad Corporation of a 2.25-mile line of railroad in Wise County, TX.

DATES: The exemption will not become effective until the environmental review process is completed. Once that process is completed, the Board will issue a further decision addressing the environmental matters and establishing an exemption effective date at that time, if appropriate. Petitions to reopen must be filed by December 6, 2001.

ADDRESSES: Send pleadings, referring to STB Finance Docket No. 34002, to: (1) Surface Transportation Board, Office of the Secretary, Case Control Unit, 1925 K Street, NW., Washington, DC 20423-0001; and (2) Richard Allen, Zuckert Scoutt & Rasenberger, L.L.P., 888 Seventeenth Street, NW., Washington, DC 20006-3309.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Da 2 Da Legal, Room 405, 1925 K Street, NW., Washington, DC 20006. Telephone: (202) 293-7776. [TDD for the hearing impaired: 1-800-877-8339.]

Board decisions and notices are available on our Web site at www.stb.dot.gov.

Decided: November 8, 2001.
By the Board, Chairman Morgan, Vice Chairman Clyburn, and Commissioner Burkes.
Vernon A. Williams,
Secretary.

[FR Doc. 01-28657 Filed 11-15-01; 8:45 am]

BILLING CODE 4915-00-P